FEDERAL COMMUNICATIONS COMMISSION

47 CFR Part 73

[DA 07-4129; MB Docket No. 07-210; RM-11399]

Radio Broadcasting Services; Butte Falls and Netarts, Oregon

AGENCY: Federal Communications Commission.

ACTION: Proposed rule.

SUMMARY: This document requests comments on a petition for rule making filed by Oregon Radio Partners, LLC (“Petitioner”) proposing the allotments of Channel 290A at Butte Falls and Channel 232C3 at Netarts, Oregon. The proposed coordinates for Channel 290A at Butte Falls are 42-36-19 NL and 122-24-38 WL with a site restriction of 14.7 km (9.1 miles) northeast of city reference and for Channel 232C3 at Netarts are 45-27-56 NL and 123-58-11 WL with a site restriction of 4.0 km (2.5 miles) northwest of city reference. The petition for rule making is a hybrid contingent filing with two applications: (1) For Station KTIL-FM, Channel 232C3 at Tillamook, Oregon to move to Channel 232C2 at Government Camp, Oregon (file no. BPH-0070125ADO); and (2) for an unbuilt station, Channel 225A at Butte Falls, Oregon to move to Talent, Oregon on the same channel (file no. BNPH-20060310ACD). These applications will be reviewed separately.

DATES: Comments must be filed on or before November 26, 2007, and reply comments on or before December 11, 2007.

ADDRESSES: Federal Communications Commission, 445 12th Street, SW., Washington, DC 20554. In addition to filing comments with the FCC, interested parties should serve the Petitioner and its counsel, as follows: Oregon Radio Partners, LLC, c/o Lee J. Peltzman, Esquire, Shainis & Peltzman, Chartered, 1850 M Street, NW., Washington, DC 20036.

FOR FURTHER INFORMATION CONTACT: Rolanda F. Smith, Media Bureau, (202) 418-2180.

SUPPLEMENTARY INFORMATION: This is a summary of the Commission's Notice of Proposed Rule Making, MB Docket No. 07-210, adopted October 3, 2007, and released October 5, 2007. The full text of this Commission decision is available for inspection and copying during normal business hours in the Commission's Reference Information Center, 445 Twelfth Street, SW., Washington, DC 20554. This document may also be purchased from the Commission's duplicating contractors, Best Copy and Printing, Inc., 445 12th Street, SW., Room CY-B402, Washington, DC 20554, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Oregon, is amended by adding Butte Falls, Channel 290A; and by adding Netarts, Channel 232C3.

Federal Communications Commission.
John A. Karousos,
Assistant Chief, Audio Division, Media Bureau.

[FR Doc. E7-20747 Filed 10-19-07; 8:45 am]

BILLING CODE 6712-01-P